FEDERAL MARITIME COMMISSION

FY 2015 Service Contract Inventory

AGENCY: Federal Maritime Commission.

ACTION: Notice of release of the Federal Maritime Commission's FY 2015 Service Contract Inventory.

SUMMARY: Acting in compliance with Sec. 743 of Division C of the Consolidated Appropriations Act 2010 (Pub. L. 111-117), the Federal Maritime Commission (Commission) is publishing this notice to advise the public of the availability of its FY 2015 Service Contract Inventory. The FY 2015 Service Contract Inventory includes the Service Contract Inventory Analysis (Executive Summary) and the Service Contract Inventory (Inventory Detail, Inventory Summary, Special Interest Functions and Total Service Contract Obligations).

This inventory was developed in accordance with guidance issued on November 5, 2010, December 19, 2011, November 25, 2014, and September 8, 2015, by the Office of Management and Budget (OMB), Office of Procurement Policy (OFPP). The Federal Maritime Commission has posted its FY 2015 Service Contract Inventory and FY 2015 Service Contract Inventory Analysis at the following links: http://www.fmc.gov/assets/1/Page/ServiceContractInventory2015FINAL.pdf and http://www.fmc.gov/assets/1/Page/ServiceContractInventorySummaryFY15.pdf.

DATES: The inventory is available on the Commission's Web site as of May 5, 2016.

FOR FURTHER INFORMATION CONTACT: Kristian Jovanovic, Director, Office of Management Services, 202-523-5900, KJovanovic@fmc.gov.

Karen V. Gregory,
Secretary.

[FR Doc. 2016-13337 Filed 6-6-16; 8:45 am]

BILLING CODE 6731-AA-P